DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of two individuals and two entities whose property and interests in property have been unblocked pursuant to the Foreign Narcotics Kingpin Designation Act (Kingpin Act) (21 U.S.C. Sections 1901-1908, 8 U.S.C. Section 1182).

DATES: The unblocking and removal from the list of Specially Designated Nationals and Blocked Persons (SDN List) of the two individuals and two entities identified in this notice whose property and interests in property were blocked pursuant to the Kingpin Act, is effective on November 12, 2014.

FOR FURTHER INFORMATION CONTACT: Assistant Director, Sanctions Compliance & Evaluation, Department of the Treasury, Office of Foreign Assets Control, Washington, DC 20220, Telephone Number: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On November 12, 2014, the Director of OFAC removed from the SDN List the two individuals and two entities listed below, whose property and interests in property were blocked pursuant to the Kingpin Act:

Individuals

1. GOMEZ RUA, Adolfo Leon, c/o COMERCIALIZADORA AUTOMOTORA MATECANA LTDA., Pereira, Colombia; c/o DIGITAL COMUNICATIONS SERVICE LTDA., Bello, Antioquia, Colombia; c/o DOLAUTOS VEHICULOS E INMUEBLES Y CIA. LTDA., Medellin, Colombia; c/o INVERSIONES BUENOS AIRES LTDA., Pereira, Colombia; DOB 28 Apr 1964; POB Bello, Antioquia, Colombia; Cedula No. 98487118 (Colombia) (individual) [SDNTK].

2. GUBEREK REYES, David Felipe; DOB 01 Oct 1983; POB Bogota, Colombia; Cedula No. 80196313 (Colombia) (individual) [SDNTK] (Linked To: INVERSIONES GILFE S.A.; Linked To: SBT S.A.; Linked To: G&G INTERNACIONAL S.A.S.; Linked To: PROMESAS DEL FUTBOL COLOMBIANO S.A.).

Entities

1. DOLAUTOS VEHICULOS E INMUEBLES Y CIA. LTDA. (a.k.a. TALLER RAMIAUTOS I.P.), Carrera 45 No. 31-208, Medellin, Colombia; NIT # 800245860-1 (Colombia); Matricula Mercantil No 21-164137-02 (Colombia) [SDNTK].

2. DIGITAL COMUNICATIONS SERVICE LTDA., Carrera 14 No. 19-3, Granada, Meta, Colombia; Diagonal 55 No. 34-52, Bello, Antioquia, Colombia; NIT # 900020090-3 (Colombia) [SDNTK].

In addition, the listings for the two individuals below have been updated to reflect these deletions, as follows.

From

1. ECHEVERRY CADAVID, Nebio De Jesus (a.k.a. ECHEVERRI, Nevio; a.k.a. ECHEVERRY, Nevio), c/o HACIENDA VENDAVAL, Paratebueno, Cundinamarca, Colombia; c/o PROVEEDORES Y DISTRIBUIDORES NACIONALES S.A., Bogota, Colombia; Carrera 10 No. 46-43, Pereira, Colombia; Carrera 38 No. 26B-11, Villavicencio, Colombia; La Pastora, Vereda La Union, Dosquebradas, Risaralda, Colombia; c/o COMERCIALIZADORA AUTOMOTORA MATECANA LTDA., Pereira, Colombia; c/o DIGITAL COMUNICATIONS SERVICE LTDA., Bello, Antioquia, Colombia; c/o INVERSIONES BUENOS AIRES LTDA., Pereira, Colombia; c/o LADRILLERA EL PORVENIR LTDA., San Jose del Guaviare, Colombia; DOB 28 Nov 1944; Cedula No. 10056431 (Colombia) (individual) [SDNTK].

2. LOPEZ CADAVID, Oscar De Jesus, c/o PROVEEDORES Y DISTRIBUIDORES NACIONALES S.A., Bogota, Colombia; Hacienda San Lorenzo, Paratebueno, Cundinamarca, Colombia; c/o COLOMBIAN GREEN STONE CORPORATION LTDA., Bogota, Colombia; c/o DIGITAL COMUNICATIONS SERVICE LTDA., Bello, Antioquia, Colombia; c/o LADRILLERA EL PORVENIR LTDA., San Jose del Guaviare, Colombia; DOB 21 Jun 1956; Cedula No. 15502188 (Colombia) (individual) [SDNTK].

To

1. ECHEVERRY CADAVID, Nebio De Jesus (a.k.a. ECHEVERRI, Nevio; a.k.a. ECHEVERRY, Nevio), Carrera 10 No. 46-43, Pereira, Colombia; Carrera 38 No. 26B-11, Villavicencio, Colombia; La Pastora, Vereda La Union, Dosquebradas, Risaralda, Colombia; DOB 28 Nov 1944; Cedula No. 10056431 (Colombia) (individual) [SDNTK] (Linked To: HACIENDA VENDAVAL; Linked To: PROVEEDORES Y DISTRIBUIDORES NACIONALES S.A.; Linked To: COMERCIALIZADORA AUTOMOTORA MATECANA LTDA.; Linked To: INVERSIONES BUENOS AIRES LTDA.; Linked To: LADRILLERA EL PORVENIR LTDA.).

2. LOPEZ CADAVID, Oscar De Jesus, Hacienda San Lorenzo, Paratebueno, Cundinamarca, Colombia; DOB 21 Jun 1956; Cedula No. 15502188 (Colombia) (individual) [SDNTK] (Linked To: PROVEEDORES Y DISTRIBUIDORES NACIONALES S.A.; Linked To: COLOMBIAN GREEN STONE CORPORATION LTDA.; Linked To: LADRILLERA EL PORVENIR LTDA.)

Dated: November 12, 2014.
John Battle,
Acting Director, Office of Foreign Assets Control.

[FR Doc. 2014-27914 Filed 11-24-14; 8:45 am]

BILLING CODE 4810-AL-P